DEPARTMENT OF JUSTICE

Antitrust Division

Notice Pursuant to The National Cooperative Research and Production Act of 1993—National Electronics Manufacturing Initiative, Inc. (“NEMI”)

Notice is hereby given that, on November 7, 2001, pursuant to section 6(a) of the National Cooperative Research and Production Act of 1993, 15 U.S.C. 4301 et seq. (“the Act”), National Electronics Manufacturing Initiative, Inc. (“NEMI”) has filed written notifications simultaneously with the Attorney General and the Federal Trade Commission disclosing changes in its membership status. The notifications were filed for the purpose of extending the Act's provisions limiting the recovery of antitrust plaintiffs to actual damages under specified circumstances. Specifically, Advanced Micro Devices, Inc. (AMD), Sunnyvale, CA; Agilent Technologies, Inc., Andover, MA; CALNET, Vienna, VA; Gouvernement du Quebec Ministere de l'Industrie et du Commerce, Montreal, Quebec, CANADA; Hewlett-Packard Company, Palo Alto, CA; iManage, Inc., San Mateo, CA; and KIC Thermal Profiling, San Diego, CA have been added as parties to this venture. Also, CTS Corporation, Elkhart, IN; and DARPA, Arlington, VA have been dropped as parties to this venture.

The following members were involved in acquisitions: Loctite Corporation, Industry, CA acquired Dexter, Rocky Hill, CT; Peregrine Systems, Inc., Belmont, CA acquired Extricity, Inc., Belmont, CA; IONA Technologies, Santa Clara, CA acquired Netfish Technologies, Santa Clara, CA; and Teradyne, Inc., Westford, MA acquired Gen Rad, Inc., Boston, MA.

No other changes have been made in either the membership or planned activity of the group research project. Membership in this group research project remains open, and NEMI intends to file additional written notification disclosing all changes in membership.

On June 6, 1996, NEMI filed its original notification pursuant to Section 6(a) of the Act. The Department of Justice published a notice in the Federal Register pursuant to Section 6(b) of the Act on June 28, 1996 (61 FR 33774).

The last notification was filed with the Department on November 29, 2000. A notice was published in the Federal Register pursuant to Section 6(b) of the Act on March 20, 2001 (66 FR 15758).

Constance K. Robinson,
Director of Operations, Antitrust Division.

[FR Doc. 02-3719 Filed 2-14-02; 8:45 am]

BILLING CODE 4410-11-M